OFFICE OF PERSONNEL MANAGEMENT

Excepted Service

AGENCY: U.S. Office of Personnel Management (OPM).

ACTION: Notice.

SUMMARY: This notice identifies Schedule A, B, and C appointing authorities applicable to a single agency that were established or revoked from March 1, 2012, to March 31, 2012.

FOR FURTHER INFORMATION CONTACT: Senior Executive Resources Services, Executive Resources and Employee Development, Employee Services, 202-606-2246.

SUPPLEMENTARY INFORMATION: In accordance with 5 CFR 213.103, Schedule A, B and C appointing authorities available for use by all agencies are codified in the Code of Federal Regulations (CFR). Schedule A, B and C appointing authorities applicable to a single agency are not codified in the CFR, but the Office of Personnel Management (OPM) publishes a notice of agency-specific authorities established or revoked each month in the Federal Register at www.gpo.gov/fdsys/. OPM also publishes annually a consolidated listing of all Schedule A, B and C appointing authorities current as of June 30 as a notice in the Federal Register.

Schedule A

The following Schedule A authority is amended to read as follows.

10. Department of Justice (Sch. A, § 213.3110).

(a) General.

(7) Positions necessary throughout DOJ, for the excepted service transfer of NDIC employees hired under Schedule A, § 213.3110(d). Authority expires September 30, 2012.

(d) (Reserved, moved to Justice).

Schedule B

The Schedule B authority is amended to read as follows:

11. Department of Homeland Security (Sch. B, § 213.3211).

(a) Coast Guard.

Up to 35 permanent positions at the GS-9 through GS-15 grade levels and 1 senior level (SL) position classified above GS-15 pursuant to section 5108 of title 5, United States Code, that does not meet the definition of an SES position at section 3132 of title 5. This authority may be used to fill GS-080 (Security) and GS-132 (Intelligence) positions. No appointments may be made under this authority after April 30, 2012.

Schedule C

The following Schedule C appointing authorities were approved during March 2012.

Agency name | Organization name | Position title | Authorization No. | Effective date
Department of Agriculture | Office of the Secretary | Confidential Assistant | DA120041 | 03/23/2012
Department of Commerce | Office of the Chief of Staff | Director of Scheduling | DC120077 | 03/15/2012
| Assistant Secretary and Director General of United States and Foreign Commercial Service | Special Advisor | DC120083 | 03/23/2012
| Office of the Under Secretary | Special Advisor | DC120084 | 03/23/2012
Department of Defense | Office of the Secretary | Director, Travel Operations | DD120032 | 03/07/2012
| Washington Headquarters Services | Defense Fellow | DD120037 | 03/09/2012
| Office of the Director (Cost Assessment and Program Evaluation) | Special Assistant for Special Projects | DD120038 | 03/30/2012
Department of The Navy | Office of the Secretary | Special Advisor | DN120012 | 03/08/2012
Department of Education | Office for Civil Rights | Confidential Assistant | DB120030 | 03/30/2012
| Office of the Secretary | Confidential Assistant | DB120040 | 03/30/2012
| Office of the Secretary | Confidential Assistant | DB120041 | 03/30/2012
Department of Energy | Office of the Deputy Secretary | Special Assistant | DE120053 | 03/15/2012
| Office of the Secretary | Deputy White House Liaison | DE120054 | 03/20/2012
| Office of the Secretary | Special Assistant | DE120058 | 03/22/2012
| Assistant Secretary for Congressional and Intergovernmental Affairs | Legislative Affairs Specialist | DE120056 | 03/29/2012
| Office of Electricity Delivery and Energy Reliability | Special Assistant | DE120057 | 03/29/2012
| Assistant Secretary for Energy Efficiency and Renewable Energy | Senior Advisor | DE120068 | 03/29/2012
| Office of the Secretary | Special Advisor | DE120067 | 03/30/2012
Environmental Protection Agency | Office of the Administrator | Deputy Press Secretary | EP120016 | 03/02/2012
Federal Communications Commission | Office of Strategic Planning and Policy Analysis | Advisor | FC120007 | 03/20/2012
General Services Administration | Office of the Administrator | Communications Director | GS120012 | 03/30/2012
Department of Health And Human Services | Office of the Assistant Secretary for Public Affairs | Special Assistant | DH120059 | 03/19/2012
Department of Homeland Security | Office of the Assistant Secretary for Intergovernmental Affairs | Local Affairs Coordinator | DM120073 | 03/13/2012
| Office of the Chief of Staff | Deputy White House Liaison | DM120075 | 03/13/2012
| Federal Emergency Management Agency | Director of Public Affairs | DM120076 | 03/13/2012
| U.S. Customs and Border Protection | Advisor | DM120078 | 03/15/2012
| Office of the Assistant Secretary for Policy | Advisor for International Affairs and Chief Diplomatic Officer | DM120079 | 03/15/2012
| U.S. Customs and Border Protection | Senior Advisor | DM120085 | 03/23/2012
| Office of the Assistant Secretary for Public Affairs | Assistant Press Secretary | DM120084 | 03/29/2012
| Office of the Under Secretary for National Protection and Programs Directorate | Senior Advisor for Public Affairs | DM120086 | 03/29/2012
| Federal Emergency Management Agency | Associate Director of Public Affairs/Press Secretary | DM120089 | 03/30/2012
Department of Housing and Urban Development | Office of the Secretary | Financial Analyst for Housing Finance | DU120025 | 03/28/2012
Department of the Interior | Secretary's Immediate Office | Special Assistant | DI120028 | 03/12/2012
Department of Justice | Office on Violence Against Women | Special Assistant | DJ120030 | 03/02/2012
| Office of Public Affairs | Senior Public Affairs Specialist | DJ120031 | 03/08/2012
Department of Labor | Office of the Secretary | Special Assistant | DL120035 | 03/08/2012
| Employee Benefits Security Administration | Senior Advisor | DL120036 | 03/09/2012
| Office of Public Affairs | Special Assistant | DL120037 | 03/15/2012
| Wage and Hour Division | Chief of Staff | DL120039 | 03/23/2012
Office of Management and Budget | Natural Resource Programs | Confidential Assistant | BO120019 | 03/29/2012
| Health Division | Confidential Assistant | BO120021 | 03/30/2012
Office of Personnel Management | Planning and Policy Analysis | Deputy Performance Improvement Officer | PM120013 | 03/07/2012
President's Commission on White House Fellowships | President's Commission on White House Fellowships | Special Assistant | WH120002 | 03/05/2012
Small Business Administration | Office of Communications and Public Liaison | Senior Speechwriter | SB120016 | 03/07/2012
| Office of Communications and Public Liaison | Press Secretary | SB120017 | 03/19/2012
| Office of the Administrator | Special Advisor | SB120019 | 03/29/2012
| Office of Communications and Public Liaison | Deputy Press Secretary | SB120020 | 03/29/2012
Department of State | Office of the Chief of Protocol | Protocol Officer | DS120061 | 03/30/2012
Department of the Treasury | Under Secretary for International Affairs | Managing Director, China Operations | DY120068 | 03/22/2012

The following Schedule C appointing authorities were revoked during March 2012.

Agency name | Organization name | Position title | Authorization No. | Effective date
Department of Agriculture | Rural Housing Service | Special Assistant | DA120016 | 3/18/2012
Department of Commerce | Office of the Director | Associate Director for Business Development | DC100041 | 3/9/2012
| National Oceanic and Atmospheric Administration | Policy Advisor for the Under Secretary | DC110056 | 3/9/2012
| Office of Legislative and Intergovernmental Affairs | Legislative Assistant | DC100072 | 3/10/2012
Department of Energy | Assistant Secretary for Congressional and Intergovernmental Affairs | Deputy Assistant Secretary for Senate Affairs | DE100106 | 3/10/2012
Department of Homeland Security | Office of the Chief of Staff | Deputy White House Liaison | DM110161 | 3/10/2012
Department of the Navy | Office of the Secretary | Special Assistant | DN110008 | 3/11/2012
Federal Energy Regulatory Commission | Office of External Affairs | Deputy Director, Office of External Affairs | DR100017 | 3/18/2012
President's Commission on White House Fellowships | President's Commission on White House Fellowships | Special Assistant | WH110001 | 3/10/2012

Authority: 5 U.S.C. 3301 and 3302; E.O. 10577, 3 CFR 1954-1958 Comp., p. 218.

U.S. Office of Personnel Management.
John Berry,
Director.

[FR Doc. 2012-17128 Filed 7-12-12; 8:45 am]

BILLING CODE 6325-39-P